FEDERAL COMMUNICATIONS COMMISSION

Federal Advisory Committee Act

AGENCY: Federal Communications Commission.

ACTION: Notice.

SUMMARY: In accordance with the Federal Advisory Committee Act (Pub. L. 92-463), the purpose of this notice is to announce that the Federal Communications Commission (FCC) has renewed the charter for the Advisory Committee for the 2012 Radiocommunication Conference (WRC-12 Advisory Committee), for a two-year period. The WRC-12 Advisory Committee is a Federal advisory committee under the Federal Advisory Committee Act.

DATES: Renewed through May 14, 2012.

ADDRESSES: Federal Communications Commission, 445 12th Street, SW., Room TW-C305, Washington, DC 20554.

FOR FURTHER INFORMATION CONTACT: Alexander Roytblat, Designated Federal Official, WRC-12 Advisory Committee, FCC International Bureau, Strategic Analysis and Negotiations Division, at (202) 418-7501. E-mail: Alexander.Roytblat@fcc.gov.

SUPPLEMENTARY INFORMATION: The GSA has renewed the charter of the WRC-12 Advisory Committee through May 14, 2012. The WRC-12 Advisory Committee will continue to provide to the FCC advice, technical support, and recommended proposals relating to the preparation of United States proposals and positions for the 2012 World Radiocommunication Conference (WRC-12); and, its scope of activities is to address issues contained in the agenda for WRC-12. In accordance with the Federal Advisory Committee Act, Public Law 92-463, as amended, this notice advises interested persons of the renewal of the WRC-12 Advisory Committee.

Federal Communications Commission.
Mindel De La Torre,
Chief, International Bureau.

[FR Doc. 2010-11707 Filed 5-14-10; 8:45 am]

BILLING CODE 6712-01-P